DEPARTMENT OF COMMERCE

International Trade Administration

[A-570-945; C-570-946]

Prestressed Concrete Steel Wire Strand From the People's Republic of China: Continuation of the Antidumping and Countervailing Duty Orders

AGENCY: Enforcement and Compliance, International Trade Administration, Department of Commerce.

SUMMARY: The Department of Commerce (the “Department”) and the International Trade Commission (the “ITC”) have determined that revocation of the antidumping duty (“AD”) and countervailing duty (“CVD”) orders on prestressed concrete steel wire strand (“PC Strand”) from the People's Republic of China (“PRC”) would likely lead to a continuation or recurrence of dumping, net countervailable subsidies, and material injury to an industry in the United States. Therefore, the Department is publishing a notice of continuation of the antidumping and countervailing duty orders.

DATES: Effective Date: October 13, 2015.

FOR FURTHER INFORMATION CONTACT: Bob Palmer (AD Order), AD/CVD Operations, Office V or Brendan Quinn (CVD Order), AD/CVD Operations, Office III; Enforcement and Compliance, International Trade Administration, U.S. Department of Commerce, 14th Street and Constitution Avenue NW., Washington, DC 20230; telephone: (202) 482-9068 and (202) 482-5848, respectively.

SUPPLEMENTARY INFORMATION:

Background

On May 1, 2015, the Department initiated ¹ and the ITC instituted ² five-year (sunset) review of the AD and CVD orders on PC Strand from the PRC,³ pursuant to section 751(c) of the Tariff Act of 1930, as amended (the Act). As a result of its reviews, the Department determined that revocation of the AD order would likely lead to continuation or recurrence of dumping, and that revocation of the CVD order would likely lead to the continuation of recurrence of net countervailable subsidies. Therefore, the Department notified the ITC of the magnitude of the margins of dumping and subsidy rates likely to prevail should the orders be revoked, pursuant to sections 751(c)(1) and 752(b) and (c) of the Act.⁴

¹ See Initiation of Five-Year (“Sunset”) Review, 80 FR 24900 (May 1, 2015).

² See Prestressed Concrete Steel Wire Strand from China; Institution of a Five-Year Review, 80 FR 24976 (May 1, 2015).

³ See Notice of Antidumping Duty Order: Prestressed Concrete Steel Wire Strand From the People's Republic of China, 75 FR 37382 (June 29, 2010) and Pre-Stressed Concrete Steel Wire Strand from the People's Republic of China: Notice of Amended Final Affirmative Countervailing Duty Determination and Notice of Countervailing Duty Order, 75 FR 38977 (July 7, 2010).

⁴ See Prestressed Concrete Steel Wire Strand From the People's Republic of China: Final Results of Expedited Sunset Review of the Antidumping Duty Order, 80 FR 43063 (July 21, 2015) and Prestressed Concrete Steel Wire Strand From the People's Republic of China: Final Results of Expedited First Sunset Review of Countervailing Duty Order, 80 FR 53497 (September 4, 2015).

On October 1, 2015, the ITC published its determination that revocation of the AD and CVD orders on PC Strand from the PRC would likely lead to continuation or recurrence of material injury to an industry in the United States within a reasonably foreseeable time, pursuant to section 751(c) of the Act.⁵

⁵ See Prestressed Concrete Steel Wire Strand from China, 80 FR 59195 (October 1, 2015).

Scope of the Order

The merchandise subject to the antidumping duty orders is PC strand, produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft² standard set forth in ASTM-A-475. Imports of the subject merchandise are currently classifiable under subheadings 7312.10.3010 and 7312.10.3012 of the Harmonized Tariff Schedule of the United States (“HTSUS”). Although the HTSUS subheadings are provided for convenience and customs purposes, the written description of the scope of this investigation is dispositive.

Continuation of the Order

As a result of the determinations by the Department and the ITC that revocation of the AD and CVD orders would likely lead to a continuation or recurrence of dumping and net countervailable subsidies, and of material injury to an industry in the United States, pursuant to sections 751(c) and 751(d)(2) of the Act, the Department hereby orders the continuation of the AD and CVD orders on PC Strand from the PRC. U.S. Customs and Border Protection will continue to collect AD and CVD cash deposits at the rates in effect at the time of entry for all imports of subject merchandise.

The effective date of the continuation of the orders will be the date of publication in the Federal Register of this notice of continuation. Pursuant to section 751(c)(2) of the Act, the Department intends to initiate the next five-year review of the orders not later than 30 days prior to the fifth anniversary of the effective date of continuation.

This five-year (sunset) review and this notice are in accordance with section 751(c) of the Act and published pursuant to section 777(i)(1) of the Act and 19 CFR 351.218(f)(4).

Dated: October 6, 2015.
Paul Piquado,
Assistant Secretary for Enforcement and Compliance.

[FR Doc. 2015-25978 Filed 10-9-15; 8:45 am]

BILLING CODE 3510-DS-P